DEPARTMENT OF ENERGY

Federal Energy Regulatory Commission

Project No. 2984-052]

S.D. Warren Company; Notice of Meeting To Discuss the Eel Weir Project's Operation During the Spring of 2003

December 10, 2003.

On January 7, 2004, the Federal Energy Regulatory Commission (FERC) will hold a meeting at Sebago Lake State Park in Casco, Maine to discuss this past year's spring operation of the Eel Weir Hydroelectric Project (FERC No. 2984). The project is owned and operated by S.D. Warren Company (licensee) and located on the Presumpscot River in Cumberland County, Maine.

By Order Amending Lake Level Management Plan, the licensee is required, in part, to maintain the elevation of Sebago Lake within prescribed elevations between May 1 and November 1 each year. The lake level management plan states that the lake shall be managed during spring fill-up to reach a level of 266.65 feet, plus or minus six inches, no sooner than May 1 and no later than the second week in June.

At the January 7th meeting we will discuss this past year's spring operation under the required parameters and varying natural conditions. Also, we will discuss the upcoming year's operation (during the winter and spring of 2004) in order to achieve the required lake level. The January 7 Meeting will focus solely on spring 2003 and 2004 operation and not discuss any relicensing issues that are currently pending before the Commission.

The time and location of the meeting is as follows:

Date: Wednesday, January 7, 2004.

Time: 10 a.m.

Place: Sebago Lake State Park.

Address: 11 Park Access Road, Casco, Maine 04015.

Phone: (207) 693-6231.

If you have any questions regarding the meeting or this notice, please contact Mr. Thomas LoVullo at FERC at (202) 502-8900.

Magalie R. Salas,
Secretary.

[FR Doc. E3-00576 Filed 12-16-03; 8:45 am]

BILLING CODE 6717-01-P